DEPARTMENT OF HEALTH AND HUMAN SERVICES

Administration for Children and Families

[CFDA Numbers: 93.592]

Announcing the Award of a Single-Source Program Expansion Supplement Grant to the National Resource Center on Domestic Violence (NRCDV) in Harrisburg, PA

AGENCY: Family and Youth Services Bureau, ACYF, ACF, HHS.

ACTION: Notice of the award of a single-source program expansion supplement grant under the Family Violence Prevention and Services Act (FVPSA) Technical Assistance (TA) Project to the National Resource Center on Domestic Violence to support training and technical assistance activities.

SUMMARY: The Administration for Children and Families (ACF), Administration on Children, Youth and Families (ACYF), Family and Youth Services Bureau (FYSB), Division of Family Violence and Prevention Services (DFVPS) announces the award of $236,000 as a single-source program expansion supplement to the National Resource Center on Domestic Violence in Harrisburg, PA. The grantee, funded under the Family Violence Protection and Services Act (FVPSA) program, is a technical assistance (TA) provider that assists FVPSA service providers to build the capacity of domestic violence programs.

DATES: The period of support for the single-source program expansion supplement is September 30, 2014 through September 29, 2015.

FOR FURTHER INFORMATION CONTACT: Shawndell Dawson, Senior Program Specialist, Family Violence Prevention and Services Program, 1250 Maryland Avenue SW., Suite 8219, Washington, DC 20024. Telephone: 202-205-1476; Email: Shawndell.Dawson@acf.hhs.gov.

SUPPLEMENTARY INFORMATION: Supplemental award funds will support the grantee in providing training and technical assistance to domestic violence service providers. A portion of the supplemental award is contributed by the Centers for Disease Control (CDC) and Prevention's National Center for Injury Prevention and Control (NCIPC), Division of Violence Prevention (DVP).

This award will expand the scope of the NRCDV's technical assistance activities to include additional activities concerning the prevention of intimate partner violence (IPV) by: (1) Coordinating engagement with national-level partners, including foundations, for the purpose of enhancing communication related to IPV prevention; 2) engaging in planning to facilitate dialogue that will include the sharing of tools and lessons learned among state domestic violence coalitions engaged in IPV primary prevention efforts; 3) continuing to identify and disseminate information on lessons learned and key findings from state domestic violence coalitions that have implemented IPV primary prevention activities through www.PreventIPVorg, and other means; 4) maintaining a virtual workspace to assist in the sharing of resources among state and territorial domestic violence coalitions that are engaged in IPV primary prevention activities; and 5) facilitating regular, ongoing communication between the IPV Prevention Council, ACF/DFVPS, and CDC/DVP.

In addition to the prevention activities, the grantee will coordinate an accessibility and sustainability peer-to-peer technical assistance collaborative with three to five state domestic violence coalitions, which may involve activities such as: (1) Identifying state coalitions with experience in addressing organizational accessibility challenges (i.e. mental health, substance use, men, and adolescent boys), or sustainability challenges (i.e. fiscal management or board management); (2) coordinating support to domestic violence organizations or coalitions experiencing accessibility or sustainability challenges; and (3) developing peer-informed accessibility and sustainability tools and resources, and a discussion forum, for use by all domestic violence coalitions.

Statutory Authority: Section 310 of the Family Violence Prevention and Services Act, as amended by Section 201 of the CAPTA Reauthorization Act of 2010, Pub. L. 111-320. The statutory authority for the additional funds from the Centers for Disease Control and Prevention is 42 U.S.C. 247b(k)(2) and 42 USC 280b-1 of the Public Health Service Act.

Christopher Beach,
Senior Grants Policy Specialist, Division of Grants Policy, Office of Administration.

[FR Doc. 2014-27390 Filed 11-18-14; 8:45 am]

BILLING CODE 4184-32-P